Title 3—

The President

Proclamation 10735 of April 30, 2024

Asian American, Native Hawaiian, and Pacific Islander Heritage Month, 2024

By the President of the United States of America

A Proclamation

This month, we celebrate the Asian American, Native Hawaiian, and Pacific Islander (AA and NHPI) communities, whose ingenuity, grit, and perseverance have pushed our great American experiment forward.

From Native Hawaiians and Pacific Islanders whose ancestors have called their lands home for hundreds of years to Asian immigrants who have newly arrived and those whose families have been here for generations—AA and NHPI heritage has long been a part of the history of our great country and a defining force in the soul of our Nation. As artists and journalists, doctors and engineers, business and community leaders, and so much more, AA and NHPI peoples have shaped the very fabric of our Nation and opened up new possibilities for all of us. I am proud that they serve at the highest levels of my Administration, including Vice President Kamala Harris, Ambassador Katherine Tai, Acting Secretary of Labor Julie Su, and Director of the White House Office of Science and Technology Policy Arati Prabhakar, who make this country a better place each and every day. This year, we are also celebrating the 25th anniversary of the White House Initiative and President's Advisory Commission on Asian Americans, Native Hawaiians, and Pacific Islanders, who work across government to advance equity, opportunity, and justice for AA and NHPI communities.

I have always believed that diversity is our Nation's greatest strength. That is why I launched the first-ever National Strategy to Advance Equity, Justice, and Opportunity for AA and NHPI Communities. This strategy works to harness the full potential of these communities—from combating anti-Asian hate to making government services accessible in more languages. To ensure the legacies of AA and NHPI peoples are properly honored in the story of America, I signed historic legislation that will bring us closer to a National Museum of Asian Pacific American History and Culture. I also issued a Presidential Memorandum to consider expanding protections for the Pacific Remote Islands to conserve this unique area's significant natural and cultural resources and honor the traditional practices and ancestral pathways of Pacific Island voyagers, and I signed the Amache National Historic Site Act to establish a memorial honoring the 10,000 Japanese Americans who were unjustly incarcerated there during World War II. Throughout my time in office, the First Lady and I have hosted celebrations at the White House that highlight the incredible diversity of AA and NHPI communities, like Diwali and the first-ever White House Lunar New Year celebration. This year, to ensure that the full diversity of AA and NHPI communities is seen and valued as new policy is being made, we updated the Federal Government's standards for collecting data on race and ethnicity for the first time in over 25 years.

Meanwhile, we are creating new opportunities for AA and NHPI communities by building an economy that works for everyone, including investing in AA and NHPI small businesses and entrepreneurs. Since I took office, the Small Business Administration provided over $22 billion in loans to AA and NHPI entrepreneurs. We have seen the results: During my Administration, we achieved the highest Asian American employment and entrepreneurship rates in over a decade.

Last year, the First Lady and I witnessed the absolute courage of the Native Hawaiian people and Hawaii's Asian American and Pacific Islander communities when we visited Maui in the wake of the devastating fires. The destruction upended so many lives, and yet the community showed up ready to help rebuild stronger than before. My Administration has their backs—we are committed to making sure Maui has everything the Federal Government can offer to heal and build back better and as fast as possible. Throughout these efforts, we remain focused on rebuilding the way the people of Maui want to build by respecting sacred lands, cultures, and traditions.

Racism, harassment, and hate crimes against people of AA and NHPI heritage also persist—a tragic reminder that hate never goes away; it only hides. Hate must have no safe harbor in America—that is why I signed the bipartisan COVID-19 Hate Crimes Act, which makes it easier for Americans to report hate crimes, and I also hosted the first-ever White House summit against hate-fueled violence. We are also working to address the scourge of gun violence, which takes the lives of too many AA and NHPI loved ones. I signed the most significant gun safety law in nearly 30 years. My Administration has taken actions to expand background checks and fund efforts to strengthen red flag laws to keep Americans out of harm's way. There is still so much to do, and I continue to urge the Congress to ban assault weapons and high-capacity magazines.

Our Nation was founded on the idea that we are all created equal and deserve to be treated equally throughout our lives. We have never fully realized this promise, but we have never fully walked away from it either. As we celebrate the historic accomplishments of AA and NHPIs across our Nation, we promise we will never stop working to form a more perfect Union.

NOW, THEREFORE, I, JOSEPH R. BIDEN JR., President of the United States of America, by virtue of the authority vested in me by the Constitution and the laws of the United States, do hereby proclaim May 2024 as Asian American, Native Hawaiian, and Pacific Islander Heritage Month. I call upon all Americans to learn more about the histories of the AA and NHPI community and to observe this month with appropriate programs and activities.

IN WITNESS WHEREOF, I have hereunto set my hand this thirtieth day of April, in the year of our Lord two thousand twenty-four, and of the Independence of the United States of America the two hundred and forty-eighth.

[FR Doc. 2024-09808

Filed 5-2-24; 8:45 am]

Billing code 3395-F4-P